CONSUMER PRODUCT SAFETY COMMISSION

Petition Requesting That ASTM F400-00, Safety Standard for Lighters, Be Adopted as a Consumer Product Safety Standard

AGENCY: Consumer Product Safety Commission.

ACTION: Notice.

SUMMARY: The Commission has received a petition (CP 02-1) requesting that the Commission adopt a voluntary standard for cigarette lighters, ASTM F400-00, as a consumer product safety standard. The Commission solicits written comments concerning the petition.

DATES: The Office of the Secretary must receive comments on the petition by March 18, 2002.

ADDRESSES: Comments, preferably in five copies, on the petition should be mailed to the Office of the Secretary, Consumer Product Safety Commission, Washington, DC 20207, telephone (301) 504-0800, or delivered to the Office of the Secretary, Room 501, 4330 East-West Highway, Bethesda, Maryland 20814. Comments may also be filed by telefacsimile to (301) 504-0127 or by e-mail to cpsc-os@cpsc.gov. Comments should be captioned “Petition CP 02-1, Petition on Lighters.” A copy of the petition is available for inspection at the Commission's Public Reading Room, Room 419, 4330 East-West Highway, Bethesda, Maryland.

FOR FURTHER INFORMATION CONTACT: Rockelle Hammond, Office of the Secretary, Consumer Product Safety Commission, Washington, DC 20207; telephone (301) 504-0800, ext. 1232.

SUPPLEMENTARY INFORMATION: The Commission has received correspondence from the Lighter Association, Inc., the national trade association of the lighter industry, requesting that the Commission issue a rule adopting an ASTM voluntary standard as a consumer product safety standard. The Commission is docketing this request as a petition under the Consumer Product Safety Act. 15 U.S.C. 2056 and 2058. The petitioner states that the ASTM standard has the force and effect of law in Canada and Mexico. The petitioner asserts that unreasonable risks of injury are being created by failure to enforce the existing voluntary standard in the U.S. The petitioner states that although most disposable lighters imported to the U.S. are child-resistant, they do not meet minimum safety standards followed by the U.S. lighter industry in accordance with the ASTM standard.

Interested parties may obtain a copy of the petition by writing or calling the Office of the Secretary, Consumer Product Safety Commission, Washington, DC 20207; telephone (301) 504-0800. Copies of the petition are also available for inspection from 8:30 a.m. to 5 p.m., Monday through Friday, in the Commission's Public Reading Room, Room 419, 4330 East-West Highway, Bethesda, Maryland.

Dated: January 14, 2002.
Todd A. Stevenson,
Secretary, Consumer Product Safety Commission.

[FR Doc. 02-1278 Filed 1-16-02; 8:45 am]

BILLING CODE 6355-01-P